DEPARTMENT OF THE INTERIOR

Bureau of Land Management

[OR-66335; LLOR936000; L54200000.PE000LVDIH10H0640; HAG-10-0306]

Notice of Realty Action: Application for Recordable Disclaimer of Interest; Oregon

AGENCY: Bureau of Land Management, Interior.

ACTION: Notice of Realty Action.

SUMMARY: The Port of Cascade Locks has filed an application with the Bureau of Land Management (BLM) requesting a Recordable Disclaimer of Interest from the United States for the property the Port has acquired from Hood River County, Oregon. The nature of the cloud on the title the applicant wishes to resolve is a recorded Disclaimer issued by the Department of the Interior General Land Office for the subject land in 1920. Issuance of this recordable disclaimer of interest would remove a cloud on the title to the land.

DATES: Interested parties may submit written comments regarding the Recordable Disclaimer of Interest on or before November 16, 2010.

ADDRESSES: Mail all written comments to Cathie Jensen, Acting Chief, Branch of Land, Mineral, and Energy Resources, BLM, Oregon State Office, P.O. Box 2965, Portland, Oregon 97208. Only written comments submitted via the U.S. Postal Service or other delivery service, or hand delivered to the BLM State Office, will be considered properly filed. Electronic mail, facsimile, or telephone comments will not be considered properly filed.

FOR FURTHER INFORMATION CONTACT: Jenny Liang, Land Law Examiner, (503) 808-6299. Additional information pertaining to this application can be reviewed in case file OR-66335 located in the BLM Oregon State Office at the above address.

SUPPLEMENTARY INFORMATION: Pursuant to Section 315 of the Federal Land Policy and Management Act of 1976 (43 U.S.C. 1745), and the regulations contained in 43 CFR subpart 1864, the Port of Cascade Locks filed an application for a Recordable Disclaimer of Interest for a portion of lands described as follows:

Willamette Meridian

T. 3 N., R. 8 E.,

sec. 33, SE¼;SE¼;, that portion lying north of The Dalles-Sandy Wagon Road.

The parcel described contains 22.5 acres, more or less, in Hood River County, Oregon.

The subject land was mentioned in a 1920 recorded Disclaimer issued by the Department of the Interior, General Land Office. The Disclaimer stated that the United States does not claim any right, title or interest in or to the subject land under the attempted reconveyances, or based on the rejection of a Forest Lieu Selection. Since the 1920 Disclaimer did not cite to an authority for issuance of said document the title company would not recognize the Disclaimer. A valid disclaimer, if issued, will confirm that the United States has no valid interest in the subject land.

The United States Department of Agriculture, Forest Service is anticipating exchanging lands with the Port pursuant to Section 1206(b) of the Omnibus Public Land Management Act of 2009 (123 Stat. 1019), and the subject land must be in an insurable condition. The United States has no claim to or interest in the land described and issuance of a Recordable Disclaimer would remove a cloud on the title to the land and a potential barrier to the exchange.

Comments, including names and street addresses of respondents, will be available for public review at the BLM Oregon State Office at the address above, during regular business hours, Monday through Friday, except Federal holidays. Before including your address, phone number, e-mail address, or other personal identifying information in your comment, you should be aware that your entire comment—including your personal identifying information—may be made publicly available at any time. While you can ask us in your comment to withhold your personal identifying information from public review, we cannot guarantee that we will be able to do so.

Any adverse comments will be reviewed by the BLM Oregon State Director. In the absence of any adverse comments, a Disclaimer of Interest may be approved stating that the United States does not have a valid interest in the described land.

Authority: 43 CFR subpart 1864.2(a)

Cathie Jensen,
Acting Chief, Branch of Land, Mineral, and Energy Resources.

[FR Doc. 2010-20332 Filed 8-17-10; 8:45 am]

BILLING CODE 4310-33-P